DEPARTMENT OF TRANSPORTATION

Coast Guard

[USCG 2001-8920]

Guidelines for Assessing Merchant Mariners' Proficiency Through Demonstrations of Skills for Ratings Forming Part of an Engineering Watch

AGENCY: Coast Guard, DOT.

ACTION: Notice of availability; request for comments.

SUMMARY: The Coast Guard announces the availability of, and seeks public comments on, the national performance measures proposed here for use as guidelines when mariners demonstrate their proficiency in skills for ratings forming part of an engineering watch. A working group of the Merchant Marine Personnel Advisory Committee (MERPAC) developed and recommended measures for this proficiency. The Coast Guard has adapted the measures recommended by MERPAC.

DATES: Comments and related material must reach the Docket Management Facility on or before May 1, 2001.

ADDRESSES: Please identify your comments and related material by the docket number of this rulemaking [USCG 2001-8920]. Then, to make sure they enter the docket just once, submit them by just one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this Notice. Comments and related material received from the public, as well as documents mentioned in this Notice, will become part of this docket and will be available for inspection or copying at room PL-401 on the Plaza level of the Nassif Building, 400 Seventh Street SW., Washington, DC, between 9 a.m. and 5 p.m., Monday through Friday, except Federal holidays.

The measures proposed here are available on the Internet at http://dms.dot.gov. They are also available from Mr. Mark Gould, Maritime Personnel Qualifications Division, Office of Operating and Environmental Standards, Commandant (G-MSO-1), U.S. Coast Guard Headquarters, telephone 202-267-0229.

FOR FURTHER INFORMATION CONTACT: For questions on this Notice or on the national performance measures proposed here, write or call Mr. Gould where indicated under ADDRESSES. For questions on viewing or submitting material to the docket, call Ms. Dorothy Beard, Chief, Dockets, Department of Transportation, telephone 202-366-9329.

SUPPLEMENTARY INFORMATION:

What Action Is the Coast Guard Taking?

Table A-III/4 of the Code accompanying the treaty on Standards of Training, Certification and Watchkeeping for Seafarers (STCW), 1978, as amended in 1995, articulates qualifications for merchant mariners' attaining the minimum standard of competence for ratings forming part of an engineering watch. The Coast Guard tasked MERPAC with referring to the Table, modifying and specifying it as it deemed necessary, and recommending national performance measures. The Coast Guard has adapted the measures recommended by MERPAC and is proposing them now for use as guidelines when assessing mariners' proficiency in skills (manifesting knowledge, understanding, and proficiency) for ratings forming part of an engineering watch.

Here follow the eight skills that a mariner must demonstrate respecting ratings forming part of an engineering watch, with an example of a Performance Condition, a Performance Behavior, and three Performance Standards for one of the eight:

Eight Skills: Engine-room watchkeeping procedures; Safe working practices as related to engine-room operations; Basic environmental-protection procedures; Use of appropriate internal-communication systems; Engine-room alarms and ability to distinguish among the various alarms, with special reference to alarms for fire-extinguishing gas; Safe operations of boilers; Escape routes from machinery spaces; and Familiarity with the location and use of fire-fighting equipment in machinery spaces.

The Performance Condition for the skill entitled, “Engine-room watchkeeping procedures” is: “Aboard a ship, in port or underway, or in an approved simulator or laboratory, given proper equipment . . .” This calls for, in the case of this skill, various Performance Behaviors.

One Performance Behavior for the same skill is: “The candidate will properly relieve the watch.” This behavior calls for three Performance Standards.

The Performance Standards for the same behavior are: “(1) Reports for duty 15 minutes before the hour; (2) Determines from the off-going watch: plant operational status, unusual alarms or conditions during previous watch, standing orders, maintenance performed during previous watch, on-going repairs affecting plant operations, [and] outstanding safety conditions; [and] (3) Seeks clarification from the off-going watch or engineer if information was not clearly understood.”

If the mariner properly meets all of the Performance Standards, he or she passes the practical demonstration. If he or she fails to properly carry out any of the Standards, he or she fails the demonstration.

Why Is the Coast Guard Taking This Action?

The Coast Guard is taking this action to comply with STCW, as amended in 1995 and 1997 and incorporated into domestic law at 46 CFR Parts 10, 12, and 15 in 1997 and since. Guidance from the International Maritime Organization on shipboard assessments of proficiency suggests that Parties develop standards and measures of performance for practical tests as part of their programs for training and assessing seafarers.

How May I Participate in This Action?

You may participate in this action by submitting comments and related material on the national performance measures proposed here. (Although the Coast Guard does not seek public comment on the measures recommended by MERPAC, as distinct from the measures proposed here, those measures are available on the Internet at the Homepage of MERPAC, http://www.uscg.mil/hq/g-m/advisory/merpac/merpac.htm.) The measures proposed here, again, are available on the Internet at http://dms.dot.gov. They are also available from Mr. Gould where indicated under ADDRESSES. If you submit written comments please include—

• Your name and address;

• The docket number for this Notice [USCG 2001-8920];

• The specific section of the performance measures to which each comment applies; and

• The reason for each comment.

You may mail, deliver, fax, or electronically submit your comments and related material to the Docket Management Facility, using an address or fax number listed in ADDRESSES. Please do not submit the same comment or material more than once. If you mail or deliver your comments and material, they must be on 8½-by-11-inch paper, and the quality of the copy should be clear enough for copying and scanning. If you mail your comments and material and would like to know whether the Facility received them, please enclose a stamped, self-addressed postcard or envelope. The Coast Guard will consider all comments and material received during the 60-day comment period.

Once we have considered all comments and related material, we will publish a final version of the national performance measures for use as guidelines by the general public. Individuals and institutions assessing the competence of mariners may refine the final version of these measures and develop innovative alternatives. If you vary from the final version of these measures, however, you must submit your alternative to the National Maritime Center for approval by the Coast Guard under 46 CFR 10.303(e) before you use it as part of an approved course or training program.

Dated: February 20, 2001.
Joseph J. Angelo,
Director of Standards, Marine Safety and Environmental Protection.

[FR Doc. 01-5115 Filed 3-2-01; 8:45 am]

BILLING CODE 4910-15-P